DEPARTMENT OF AGRICULTURE

Forest Service

Plumas County Resource Advisory Committee (RAC); Meeting

AGENCY: Forest Service, USDA.

ACTION: Notice of meeting.

SUMMARY: The Plumas County Resource Advisory Committee (RAC) will hold a meeting on October 17, 2003, in Greenville, California. The purpose of the meeting will be to review and recommend a slate of projects to the Plumas National Forest Supervisor for funding consideration under the Title 2 provisions of the Secure Rural Schools and Community Self-Determination Act of 2000. This is the third funding cycle of five under this Act.

DATES & ADDRESSES: The October 17 meeting will take place from 9-4 p.m., at the Catholic Church Social Hall, 209 Jesse Street, Greenville, California.

FOR FURTHER INFORMATION CONTACT: Lee Anne Schramel Taylor, Forest Coordinator, USDA, Plumas National Forest, P.O. Box 11500/159 Lawrence Street, Quincy, CA 95971; (530) 283-7850; or by e-mail eataylor@fs.fed.us. Final agendas are posted one week prior to the meeting on the internet at: http://www.fs.fed.us/r5/pay2states/plumas. Prior meeting minutes and agendas are available on the same site.

SUPPLEMENTARY INFORMATION: Agenda items for the meeting include: (1) Introduce new committee members as needed; (2) review nominations and conduct elections for calendar year 2004 chairperson; (3) review and recommend a slate of projects to the Plumas National Forest Supervisor for Cycle 3 funding consideration; and (4) set future meeting schedule/logistics/agenda. The meeting is open to the public and individuals may address the Committee after being recognized by the Chair.

Dated: September 19, 2003.
James M. Peña,
Forest Supervisor.

[FR Doc. 03-24682 Filed 9-29-03; 8:45 am]

BILLING CODE 3410-11-M